DEPARTMENT OF EDUCATION

Office of Special Education and Rehabilitative Services, Overview Information; State Vocational Rehabilitation Unit In-Service Training Notice Inviting Applications for New Awards for Fiscal Year (FY) 2005

Catalog of Federal Domestic Assistance (CFDA) Number: 84.265A.

Dates:

Applications Available: April 28, 2005.

Deadline for Transmittal of Applications: June 13, 2005.

Deadline for Intergovernmental Review: August 11, 2005.

Eligible Applicants: State agencies designated under a State plan for vocational rehabilitation services under section 101(a) of the Rehabilitation Act of 1973, as amended.

Estimated Available Funds: $5,823,883.

Basic Awards: $4,659,106.

Quality Awards: $1,164,777.

Please see the chart elsewhere in this notice (see section II. Award Information) for further information concerning the estimated funds available to individual State agencies for Basic Awards.

Estimated Range of Awards:

Basic Awards: $19,413-$325,590.

Quality Awards: $20,000-$60,000.

Estimated Average Size of Awards:

Basic Awards: $63,234.

Quality Awards: $40,000.

Estimated Number of Awards:

Basic Awards: 80.

Quality Awards: 30.

Note: The Department is not bound by any estimates in this notice.

Project Period: Up to 60 months.

Full Text of Announcement

I. Funding Opportunity Description

Purpose of Program: This program is designed to support projects for training State vocational rehabilitation (VR) unit personnel in program areas essential to the effective management of the unit's program of VR services or in skill areas that will enable staff personnel to improve their ability to provide VR services leading to employment outcomes for individuals with disabilities.

Priorities for Quality Awards: In accordance with 34 CFR 75.105(b)(2)(ii), these priorities are from the regulations for this program (34 CFR 388.22). The Secretary reserves a portion of the funds for this program to support some or all of the proposals that have been awarded a rating of 80 points or more under the criteria described in 34 CFR 388.20. In making a final selection of proposals to support under this program, the Secretary considers the extent to which proposals have exceeded a rating of 80 points and gives an absolute preference to applications that meet one or more of the following priorities.

Absolute Priorities: For FY 2005 these priorities are absolute priorities. Under 34 CFR 75.105(c)(3) we consider for Quality Awards only applications that meet one or more of these priorities.

Note: In order to be considered for a Quality Award, applicants must submit a separate Application for Federal Assistance (ED 424).

These priorities are:

Absolute Priority 1—Development and Dissemination of Model In-Service Training Materials and Practices

The proposed project demonstrates an effective plan to develop and disseminate information on its State VR In-Service Training program, including the identification of training approaches and successful practices, in order to permit the replication of these programs by other State VR units.

Absolute Priority 2—Distance Education

The proposed project demonstrates innovative strategies for training State VR unit personnel through distance education methods, such as interactive audio, video, computer technologies, or existing telecommunications networks.

Absolute Priority 3—Enhanced Employment Outcomes for Specific Populations

The proposed project supports specialized training in the provision of VR or related services to individuals with disabilities to increase the rehabilitation rate into competitive employment for all individuals or specified target groups.

Program Authority: 29 U.S.C. 721 and 772.

Applicable Regulations: (a) The Education Department General Administrative Regulations (EDGAR) in 34 CFR parts 74, 75, 77, 79, 80, 81, 82, 84, 85, 86, and 99. (b) The regulations for this program in 34 CFR parts 385 and 388.

Note: The regulations in 34 CFR part 79 apply to all applicants except federally recognized Indian tribes.

Note: The regulations in 34 CFR part 86 apply to institutions of higher education only.

II. Award Information

Type of Award: Discretionary grants.

Estimated Available Funds: $5,823,883.

Basic Awards: $4,659,106.

Quality Awards: $1,164,777.

Basic awards are calculated annually and distributed according to staffing levels of the State agencies obtained from data on the Annual Vocational Rehabilitation Program/Cost Report (RSA-2). The minimum level of a basic award is one-third of one percent of the funds available. For FY 2005 that amount is $19,413 (34 CFR 388.21(a)(3)).

The following chart lists, by State agency, the Estimated Available Funds for Basic Awards.

State | Basic awards estimated available funds
Alabama | 103,768
Alaska | 19,413
Arizona | 66,170
Arkansas (General) | 76,349
Arkansas (Blind) | 19,413
California | 325,590
Colorado | 36,450
Connecticut (General) | 24,300
Connecticut (Blind) | 19,413
Delaware (General) | 19,413
Delaware (Blind) | 19,413
Florida (General) | 153,354
Florida (Blind) | 50,242
Georgia | 151,712
Hawaii | 19,413
Idaho (General) | 21,673
Idaho (Blind) | 19,413
Illinois | 138,084
Indiana | 57,138
Iowa (General) | 43,347
Iowa (Blind) | 19,413
Kansas | 41,704
Kentucky (General) | 76,841
Kentucky (Blind) | 19,413
Louisiana | 65,019
Maine (General) | 20,031
Maine (Blind) | 19,413
Maryland | 83,081
Massachusetts (General) | 81,110
Massachusetts (Blind) | 19,413
Michigan (General) | 89,155
Michigan (Blind) | 19,413
Minnesota (General) | 60,586
Minnesota (Blind) | 19,413
Mississippi | 87,185
Missouri (General) | 58,452
Missouri (Blind) | 19,413
Montana | 19,413
Nebraska (General) | 28,569
Nebraska (Blind) | 19,413
Nevada | 19,413
New Hampshire | 19,413
New Jersey (General) | 46,303
New Jersey (Blind) | 19,413
New Mexico (General) | 28,405
New Mexico (Blind) | 19,413
New York (General) | 138,248
New York (Blind) | 31,360
North Carolina (General) | 141,861
North Carolina (Blind) | 61,243
North Dakota | 19,413
Ohio | 126,098
Oklahoma | 67,646
Oregon (General) | 40,062
Oregon (Blind) | 19,413
Pennsylvania | 164,356
Rhode Island | 19,413
South Carolina (General) | 192,924
South Carolina (Blind) | 19,413
South Dakota (General) | 19,413
South Dakota (Blind) | 19,413
Tennessee | 93,754
Texas (General) | 243,987
Texas (Blind) | 87,185
Utah | 38,256
Vermont (General) | 19,413
Vermont (Blind) | 19,413
Virginia (General) | 81,767
Virginia (Blind) | 19,413
Washington (General) | 58,288
Washington (Blind) | 19,413
West Virginia | 88,991
Wisconsin | 57,959
Wyoming | 19,413
District of Columbia | 24,465
Puerto Rico | 226,583
American Samoa | 19,413
Northern Marianna | 19,413
Guam | 19,413
Virgin Islands | 19,413
Total | $4,659,106

Estimated Range of Awards:

Basic Awards: $19,413-$325,590.

Quality Awards: $20,000-$60,000.

Estimated Average Size of Awards:

Basic Awards: $63,234.

Quality Awards: $40,000.

Estimated Number of Awards:

Basic Awards: 80.

Quality Awards: 30.

Note: The Department is not bound by any estimates in this notice.

Project Period: Up to 60 months.

III. Eligibility Information

1. Eligible Applicants: State agencies designated under a State plan for vocational rehabilitation services under section 101(a) of the Rehabilitation Act of 1973, as amended.

2. Cost Sharing or Matching: Grantees under the State Vocational Rehabilitation Unit In-Service Training program must provide at least 10 percent of the total cost of the project (34 CFR 388.30(a)), except that under 34 CFR 388.30(b), grantees designated to receive a minimum share of one third of one percent of the sums made available for the fiscal year are required to provide at least four percent of the total costs of the project.

Note: Under 34 CFR 75.562(c), an indirect cost reimbursement on a training grant is limited to the recipient's actual indirect costs, as determined by its negotiated indirect cost rate agreement, or eight percent of a modified total direct cost base, whichever amount is less. Indirect costs in excess of the eight percent limit may not be charged directly, used to satisfy matching or cost-sharing requirements, or charged to another Federal award.

IV. Application and Submission Information

1. Address to Request Application Package: Education Publications Center (ED Pubs), P.O. Box 1398, Jessup, MD 20794-1398. Telephone (toll free): 1-877-433-7827. Fax: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.265A.

Individuals with disabilities may obtain a copy of the application package in an alternative format (e.g., Braille, large print, audiotape, or computer diskette) by contacting the Grants and Contracts Services Team, U.S. Department of Education, 400 Maryland Avenue, SW., room 5075, Potomac Center Plaza, Washington, DC 20202-2550. Telephone: (202) 245-7363. If you use a telecommunications device for the deaf (TDD), you may call the Federal Relay Service (FRS) at 1-800-877-8339.

2. Content and Form of Application Submission: Requirements concerning the content of an application, together with the forms you must submit, are in the application package for this competition.

Page Limit: Part III of the application, the application narrative, is where you, the applicant, address the selection criteria that reviewers use to evaluate your application. You must limit Part III to the equivalent of no more than 35 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

We will reject your application if—

• You apply these standards and exceed the page limit; or

• You apply other standards and exceed the equivalent of the page limit.

3. Submission Dates and Times:

Applications Available: April 28, 2005.

Deadline for Transmittal of Applications: June 13, 2005.

Applications for grants under this competition must be submitted electronically using the Electronic Grant Application System (e-Application) available through the Department's e-Grants system. For information (including dates and times) about how to submit your application electronically or by mail or hand delivery if you qualify for an exception to the electronic submission requirement, please refer to section IV. 6. Other Submission Requirements in this notice.

We do not consider an application that does not comply with the deadline requirements.

Deadline for Intergovernmental Review: August 11, 2005.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this program must be submitted electronically, unless you qualify for an exception to this requirement in accordance with the instructions in this section.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

a. Electronic Submission of Applications.

Applications for grants under State Vocational Rehabilitation Unit In-Service Training—CFDA Number 84.265A must be submitted electronically using e-Application available through the Department's e-Grants system, accessible through the e-Grants portal page at: http://e-grants.ed.gov.

While completing your electronic application, you will be entering data online that will be saved into a database. You may not e-mail an electronic copy of a grant application to us.

Please note the following:

• You must complete the electronic submission of your grant application by 4:30 p.m., Washington, DC time, on the application deadline date. The e-Application system will not accept an application for this program after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the Application for Federal Education Assistance (ED 424), Budget Information—Non-Construction Programs (ED 524), and all necessary assurances and certifications.

• Any narrative sections of your application should be attached as files in a .DOC (document), .RTF (rich text), or .PDF (Portable Document) format.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of e-Application System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If the system is down and therefore the application deadline is extended, an e-mail will be sent to all registered users who have initiated an e-Application. Extensions referred to in this section apply only to the unavailability of the Department's e-Application system.

Exception to Electronic Submission Requirement: You qualify for an exception to the electronic submission requirement, and may submit your application in paper format, if you are unable to submit an application through the e-Application system because—

• You do not have access to the Internet; or

• You do not have the capacity to upload large documents to the Department's e-Application system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Marilyn P. Fountain, U.S. Department of Education, 400 Maryland Avenue, SW., room 5028, Potomac Center Plaza, Washington, DC 20202-2800. Fax: (202) 245-7591.

Your paper application must be submitted in accordance with the mail or hand delivery instructions described in this notice.

b. Submission of Paper Applications by Mail.

If you qualify for any exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.265A), 400 Maryland Avenue, SW., Washington, DC 20202-4260.

or

By mail through a commercial carrier: U.S. Department of Education, Application Control Center—Stop 4260, Attention: (CFDA Number 84.265A), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.265A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this competition are from 34 CFR 75.210 and 34 CFR 388.20. The selection criteria for this competition are in the application package.

2. Review and Selection Process: The procedures used for reviewing and selecting an application for an award are in 34 CFR 75.210 and 34 CFR 388.20. An additional factor we consider in selecting an application for an award is the past performance of the applicant in carrying out similar training activities under previously awarded grants, as indicated by factors such as compliance with grant conditions, soundness of programmatic and financial management practices, and attainment of established project objectives (34 CFR 385.33(b)).

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project, you must submit a final performance report, including financial information, as directed by the Secretary. If you receive a multi-year award, you must submit an annual performance report that provides the most current performance and financial expenditure information as specified by the Secretary in 34 CFR 75.118.

4. Performance Measures: The Government Performance and Results Act (GPRA) of 1993 directs Federal departments and agencies to improve the effectiveness of their programs by engaging in strategic planning, setting outcome-related goals for programs, and measuring program results against those goals. The primary objective of the State VR Unit In-Service Training program is to maintain and upgrade the knowledge and skills of personnel currently employed in the public VR system. Grantees must provide training that responds to the needs identified in the Comprehensive System for Personnel Development (CSPD) required in section 101(a)(7) of the Rehabilitation Act of 1973, as amended.

In order to measure the success of the State VR Unit In-Service Training program grantees in meeting this objective, State VR agencies are required to submit performance data through the in-service annual performance report and their State plans. At a minimum, the annual performance report must include data on the percentage of currently employed VR State agency counselors who meet their States' CSPD standards.

VII. Agency Contact

For Further Information Contact: Marilyn Fountain, U.S. Department of Education, 400 Maryland Avenue, SW., room 5028, Potomac Center Plaza, Washington, DC 20202-2550. Telephone: (202) 245-7346 or by e-mail: Marilyn.Fountain@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: April 22, 2005.
John H. Hager,
Assistant Secretary for Special Education and Rehabilitative Services.

[FR Doc. 05-8512 Filed 4-27-05; 8:45 am]

BILLING CODE 4000-01-P